DEPARTMENT OF COMMERCE

Agency Information Collection Activities; Withdrawal of Prior Notice and Proposed Submission of Information Collection for OMB Review; Comment Request; Medical Exception Request

The Department of Commerce (Department) published a notice in the Federal Register of its intent to request that the Office of Management and Budget (OMB) extend approval, without change, under the Paperwork Reduction Act (PRA), to a collection of information for its employees to request a medical exception to the COVID-19 vaccination requirement on January 25, 2022. That notice was withdrawn in light of the January 21, 2022 nationwide preliminary injunction enjoining implementation and enforcement of the federal employee vaccination requirement pursuant to the President's Executive Order 14043 of September 9, 2021, “Requiring Coronavirus Disease 2019 Vaccination for Federal Employees.” The Department sought comment on its new notice of intent to request that OMB approve, without change, under the PRA, a collection of information for its employees to request a medical exception to the COVID-19 vaccination requirement via the Federal Register on February 15, 2022, 87 FR 8561, during a 60-day comment period. This notice allows for an additional 30 days for public comments. We invite the general public and other Federal agencies to comment on proposed, and continuing information collections, which helps us assess the impact of our information collection requirements and minimize the public's reporting burden.

Agency: Office of the Secretary, Commerce.

Title: Request for a Medical Exemption to the COVID-19 Vaccination Requirement Form.

OMB Control Number: 0690-0036.

Form Number(s): None.

Type of Request: Regular submission; Extension of an already approved collection.

Estimated Number of Respondents: 1,000.

Estimated Time per Response: 10 minutes.

Estimated Total Annual Burden Hours: 167.

Needs and Uses: Under Executive Order 14043, every Federal agency must “implement, to the extent consistent with applicable law, a program to require COVID-19 vaccination for all of its federal employees, with exceptions only as required by law.” In following this directive, the Department imposed a requirement that its employees must receive and submit proof of COVID-19 vaccination. As required by 29 U.S.C. 701 et seq. and 29 CFR part 1630, the Department allows an exception from the vaccination requirement for employees who demonstrate medical reasons or disabilities that would make the COVID-19 vaccine unsafe for them. To obtain this exception, employees can submit the Request for Medical Exception to the COVID-19 Vaccination Requirement form available from the Department's COVID-19 Information Hub. The Department uses the information on this form to verify employees' assertions that they are entitled to an exception to the COVID-19 vaccination requirement because of their medical or disability statuses.

Affected Public: Federal employees and medical providers.

Legal Authority: Executive Order (E.O.) 14043.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0690-0032.

Sheleen Dumas,
Department PRA Clearance Officer, Office of the Chief Information Officer, Commerce Department.

[FR Doc. 2022-09110 Filed 4-27-22; 8:45 am]

BILLING CODE 3510-17-P